DEPARTMENT OF EDUCATION

National Advisory Committee on Institutional Quality and Integrity

AGENCY: National Advisory Committee on Institutional Quality and Integrity (NACIQI), Office of Postsecondary Education, U.S. Department of Education.

ACTION: Announcement of an open meeting.

SUMMARY: This notice sets forth the agenda, time, and instructions for participation in the July 29 & 30, 2020 virtual meeting of the National Advisory Committee on Institutional Quality and Integrity (NACIQI) and provides information to members of the public regarding the meeting, including requesting to make oral comments or submit written statements. The notice of this meeting is required under section 10(a)(2) of the Federal Advisory Committee Act (FACA) and section 114(d)(1)(B) of the Higher Education Act (HEA) of 1965, as amended.

DATES: The virtual NACIQI meeting will be held on July 29 & 30, 2020, from 9:00 a.m. to 5:00 p.m. Eastern Standard Time.

FOR FURTHER INFORMATION CONTACT: George Alan Smith, Executive Director/Designated Federal Official, NACIQI, U.S. Department of Education, 400 Maryland Avenue SW, Room 271-03, Washington, DC 20202, telephone: (202) 453-7757, or email: George.Alan.Smith@ed.gov.

SUPPLEMENTARY INFORMATION:

NACIQI's Statutory Authority and Function: NACIQI is established under section 114 of the HEA. NACIQI advises the Secretary of Education with respect to:

• The establishment and enforcement of the standards of accrediting agencies or associations under subpart 2, part G, Title IV of the HEA, as amended.

• The recognition of specific accrediting agencies or associations.

• The preparation and publication of the list of nationally recognized accrediting agencies and associations.

• The eligibility and certification process for institutions of higher education under Title IV of the HEA and part C, subchapter I, chapter 34, Title 42, together with recommendations for improvement in such process.

• The relationship between (1) accreditation of institutions of higher education and the certification and eligibility of such institutions, and (2) State licensing responsibilities with respect to such institutions.

• Any other advisory function relating to accreditation and institutional eligibility that the Secretary of Education may prescribe by regulation.

Meeting Agenda

Meeting Day Web Links: Each meeting will be held virtually and will begin at 9:00 a.m. Eastern Standard Time. When speaking, U.S. Department of Education staff, agency representatives, and NACIQI members may be visible to the public. Public commenters will appear by audio only. You may register for the meeting on your computer with each day's designated entry link, which are listed below, after which you will receive an email containing personalized dial in details, access code, and conference weblink.

Entry Link for Wednesday, July 29, 2020

https://ems8.intellor.com?do=register&t=1&p=827612.

Entry Link for Thursday, July 30, 2020

https://ems8.intellor.com?do=register&t=1&p=827610.

Agenda items for the July 29 & 30, 2020 virtual meeting are listed below. Please note that the Accrediting Council for Independent Colleges and Schools' Compliance Report has been rescheduled for the February 2021 meeting.

Application for Renewal of Recognition (State Agency for the Approval of Vocational Education)

1. Puerto Rico State Agency for the Approval of Public Postsecondary Vocational, Technical Institutions and Programs.

Applications for Renewal of Recognition (State Agency for the Approval of Nurse Education)

1. New York State Board of Regents, State Education Department, Office of the Professions (Nursing Education).

2. Missouri State Board of Nursing.

Application for Reorganization and Curriculum Change by Federal Agencies and Institutions

1. National Intelligence University: Undergoing Substantive Change (Reorganization/Command Change from Department of Defense to Director of National Intelligence).

2. U.S. Army Command and General Staff College: Undergoing Substantive Change (Curriculum Change).

Review of Agency Recognition During the Period of Recognition, in accordance with the procedures set forth in 34 CFR 602.33.

1. Higher Learning Commission (HLC).

The review by the Department's Office of Postsecondary Education has identified noncompliance with the criteria in 34 CFR 602.18(c), 602.25(a), 602.25(d), 602.25(e), and 602.25(f). Please note: Given the time constraints of this review and multiple time extensions provided to the agency for response to Department inquiries, the Department determined that it was not practicable to invite the public to submit written comments in advance of the NACIQI meeting. The public is invited to provide oral comments at the meeting, and instructions for registration for oral comments are set forth at the end of this notice.

NACIQI Subcommittee on Governance

The subcommittee will provide an update on its research of accreditor and state/gubernatorial relations.

Presentation on Student Success

A NACIQI member will lead a discussion on student success focusing on accreditation and preaccreditation standards, as discussed under 34 CFR 602.16(a)(1)(i).

Submission of requests to make an oral comment regarding a specific accrediting agency under review, or to make an oral comment or written statement regarding other issues within the scope of NACIQI's authority: Opportunity to submit a written statement regarding a specific accrediting agency under review was requested by a previous Federal Register notice published on March 4, 2020 (85 FR 12778; Document Number 2020-04410). The period for submission of such statements is now closed. Additional written comments regarding a specific agency or state approval agency under review will not be accepted at this time. However, members of the public may submit written statements regarding other issues within the scope of NACIQI's authority for consideration by NACIQI in the manner described below. Oral comments may not exceed three minutes.

Oral comments about an agency's recognition after review of a compliance report must relate to issues identified in the compliance report and the criteria for recognition cited in the senior Department official's letter that requested the report, or in the Secretary's appeal decision, if any. Oral comments about an agency seeking expansion of scope must be directed to the agency's ability to serve as a recognized accrediting agency with respect to the kinds of institutions or programs requested to be added. Oral comments about the renewal of an agency's recognition based on a review of the agency's petition and oral comments about the review of an agency during its period of recognition pursuant to § 602.33 must relate to its compliance with the Criteria for the Recognition of Accrediting Agencies, which are available at http://www.ed.gov/admins/finaid/accred/index.html. Written statements and oral comments concerning NACIQI's work outside of a specific accrediting agency under review must be limited to the scope of NACIQI's authority as outlined under section 114 of the HEA.

To request to make a third-party oral comment of three minutes or less during the July 29 & 30, 2020 meeting, please follow either Method One or Method Two noted below. To submit a written statement to NACIQI concerning its work outside of a specific accrediting agency under review, please follow Method One.

Method One: Submit written statements and/or a request for oral comment by email to the ThirdPartyComments@ed.gov mailbox. Please do not send material directly to NACIQI members. Written statements relating to NACIQI's work outside of a specific agency under review and requests to make oral comment must be received by July 15, 2020 and include the subject line “Oral Comment Request: (Agency name),” “Oral Comment Request: (Subject)” or “Written Statement: (Subject).” The email must include the name(s), title, organization/affiliation, mailing address, email address, telephone number, of the person(s) submitting a written statement or requesting to speak, and a brief summary (not to exceed one page) of the principal points to be made during the oral presentation, if applicable. All individuals submitting an advance request in accordance with this notice will be afforded an opportunity to speak during the virtual meeting.

Method Two: (Only available to those seeking to submit oral comments). Register on July 29, 2020, from 7:45 a.m.-8:45 a.m., to make an oral comment during NACIQI's deliberations, using the designated entry link for Wednesday, July 29, 2020 https://ems8.intellor.com?do=register&t=1&p=827612. The requestor must provide the subject on which he or she wishes to comment, in addition to his or her name, title, organization/affiliation, mailing address, email address, and telephone number. A total of up to 15 minutes for each agenda item will be allotted for oral commenters who register on July 29, 2020 by 8:45 a.m. Individuals will be selected on a first-come, first-served basis. If selected, each comment may not exceed three minutes.

Access to Records of the Meeting: The Department will post the official report of the meeting on the NACIQI website within 90 days after the meeting. In addition, pursuant to the FACA, the public may request to inspect records of the meeting at 400 Maryland Avenue SW, Washington, DC, by emailing aslrecordsmanager@ed.gov or by calling (202) 453-7415 to schedule an appointment.

Reasonable Accommodations: The meeting weblinks, personalized dial in details, access code, and conference weblink are accessible to individuals with disabilities. If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

Electronic Access to This Document: The official version of this document is the document published in the Federal Register. Free internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site. You also may access documents of the Department published in the Federal Register by using the article search feature at: www.federalregister.gov. Specifically, through the advanced search feature at this site, you can limit your search to documents published by the Department.

Authority: 20 U.S.C. 1011c.

Robert L. King,
Assistant Secretary, Office of Postsecondary Education.

[FR Doc. 2020-13723 Filed 6-24-20; 8:45 am]

BILLING CODE P